INTERNATIONAL TRADE COMMISSION

[Investigation No. 337-TA-795]

Certain Video Analytics Software, Systems, Components Thereof, and Products Containing Same; Commission Determination Not To Review an Initial Determination Granting Joint Motion for Termination of the Investigation Based on a License Agreement; Termination of Investigation

AGENCY: U.S. International Trade Commission.

ACTION: Notice.

SUMMARY: Notice is hereby given that the U.S. International Trade Commission has determined not to review an initial determination (“ID”) (Order No. 39) of the presiding administrative law judge (“ALJ”) terminating the investigation based on a license agreement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 1, 2011, based on a complaint filed by ObjectVideo, Inc. of Reston, Virginia (“ObjectVideo”). 76 FR 45859 (Aug. 1, 2011). The complaint, as amended, alleges violations of section 337 of the Tariff Act of 1930 (19 U.S.C. § 1337), as amended, in the importation into the United States, the sale for importation, and the sale within the United States after importation of certain video analytics software, systems, components thereof, and products containing same by reason of infringement of certain claims of U.S. Patent Nos. 6,696,945; 6,970,083; 7,613,324; 7,424,175; 7,868,912; and 7,932,923. The notice of investigation names numerous parties as respondents. Subsequently, the investigation was terminated as to respondents Samsung Techwin Co., Ltd. and Samsung Opto-Electronics America, Inc. The remaining respondents are Bosch Security Systems, Inc.; Robert Bosch GmbH; Bosch Sicherheitssysteme GmbH; Bosch Security Systems B.V.; Bosch Sicherheitssysteme Engineering GmbH; Bosch Security Systems—Sistemas de Seguranca, S.A.; Bosch (Zhuhai) Security Systems, Co., Ltd.; and Extreme CCTV, Inc.

Complainant Object Video and respondents jointly moved to terminate this investigation based upon a license agreement and to suspend the procedural schedule. On November 14, 2012, the ALJ issued an ID (Order No. 39) granting the motion. The ALJ found that termination of the investigation is in the interest of public policy. No party petitioned for review of the ID, and the Commission has determined not to review it.

The authority for the Commission's determination is contained in section 337 of the Tariff Act of 1930, as amended, 19 U.S.C. 1337, and in sections 210.21 and 210.42(h) of the Commission's Rules of Practice and Procedure, 19 CFR 210.21, 210.42(h).

By order of the Commission.
Issued: December 13, 2012.
Lisa R. Barton,
Acting Secretary to the Commission.

[FR Doc. 2012-30488 Filed 12-18-12; 8:45 am]

BILLING CODE 7020-02-P